ENVIRONMENTAL PROTECTION AGENCY

[EPA-HQ-OPP-2008-0850; FRL-8886-6]

Chlorpyrifos Registration Review; Preliminary Human Health Risk Assessment; Extension of Comment Period

AGENCY: Environmental Protection Agency (EPA).

ACTION: Notice; Extension of comment period.

SUMMARY: EPA issued a notice in the Federal Register of Wednesday, July 6, 2011, concerning the availability of the chlorpyrifos registration review; preliminary human health risk assessment. This document extends the comment period for 30 days, from Tuesday, September 6, 2011 to Thursday, October 6, 2011.

DATES: Comments, identified by docket identification (ID) number EPA-HQ-OPP-2008-0850, must be received on or before Thursday, October 6, 2011.

ADDRESSES: Follow the detailed instructions as provided under ADDRESSES in the Federal Register document of Wednesday, July 6, 2011.

FOR FURTHER INFORMATION CONTACT: Tom Myers, Pesticide Re-evaluation Division, Office of Pesticide Programs, Environmental Protection Agency, 1200 Pennsylvania Ave., NW., Washington, DC 20460-0001; telephone number: (703) 308-8589; e-mail address: myers.tom@epa.gov.

SUPPLEMENTARY INFORMATION: This document extends the public comment period for the chlorpyrifos reregistration review, preliminary human health risk assessment, established in the Federal Register of Wednesday, July 6, 2011 (76 FR 39399) (FRL-8878-9). The document announced the availability of the human health assessment, along with all supporting documents, and commenced a 60-day public comment period that would end on September 6, 2011.

This preliminary assessment incorporates new information that was not available at the time of the last assessment in 2000. Since 2000, several Scientific Advisory Panels have been held specifically on chlorpyrifos and some of the Agency's science policies and methods have changed. Based on the extant data and assumptions made in the preliminary assessment, risks have been preliminarily identified for drinking water, handlers, and residential bystanders. A Reader's Guide accompanied the preliminary human health assessment that detailed some of these exposure assumptions and remaining evaluations needed on the hazard assessment.

As of early August, eight comments have been submitted to the EPA docket requesting a 60-day extension of the comment period based on the complex scientific issues and precedent setting policy applications. The submitters are Dow AgroSciences, Gharda Chemicals Limited, Agricultural Retailers Association, California Citrus Mutual, California Grape and Tree Fruit League, Oregonians for Food and Shelter, CropLife America and the Washington Friends of Farms and Forests.

In recognition of the complex, robust scientific database and mechanistic studies available for chlorpyrifos, the Agency will extend the public comment period by 30 days to end on October 6, 2011. Subsequent to this public comment period, the Agency will be revising the human health assessment based on a full weight of the evidence evaluation of all available data, and consideration of all comments received during the comment period as well as any additional information received on the health and exposure analyses. EPA is hereby extending the comment period, which was set to end on Tuesday, September 6, 2011, to Thursday, October 6, 2011.

To submit comments, or access the docket, please follow the detailed instructions as provided under ADDRESSES in the Wednesday, July 6, 2011 Federal Register document. If you have questions, consult the person listed under FOR FURTHER INFORMATION CONTACT.

List of Subjects

Environmental protection, chlorpyrifos, pesticides, and pests.

Dated: August 18, 2011.
Peter Caulkins,
Acting Director, Pesticide Re-evaluation Division, Office of Pesticides Programs.

[FR Doc. 2011-21677 Filed 8-23-11; 8:45 am]

BILLING CODE 6560-50-P